DEPARTMENT OF TRANSPORTATION

Federal Railroad Administration

[Docket No. FRA-2020-0027-N-14]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before September 14, 2020.

ADDRESSES: Submit comments and recommendations for the proposed ICR to Ms. Hodan Wells, Information Collection Clearance Officer, at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Safety Appliance Standards.

OMB Control Number: 2130-0594.

Abstract: The information collection associated with 49 CFR part 231 is used by FRA to promote and enhance the safe placement and securement of safety appliances on modern rail equipment by establishing a process for the review and approval of existing industry standards. In 2011, FRA amended the regulations related to safety appliance arrangements by permitting railroad industry representatives to submit requests for the approval of existing industry standards relating to the safety appliance arrangements on newly constructed railroad cars, locomotives, tenders, or other rail vehicles in lieu of the specific provisions contained in part 231.

Type of Request: Extension with change (revised estimates) of a currently approved collection.

Affected Public: Businesses.

Form(s): N/A.

Respondent Universe: Railroads/railroad industry representatives/rail labor unions/general public.

Frequency of Submission: On occasion.

Reporting Burden:

CFR section | Respondent universe | Total annual responses | Average time per responses (hours) | Total annual burden hours | Total cost equivalent ¹
231.33(b)—Procedure for special approval of existing industry safety appliance standards—drafting and filing of petitions | Association of American Railroads (AAR) (industry rep.) | 1 petition | 16 | 16 | $1,232
—(b)(6) Affirmative statement by petitioner that a petition copy has been served on rep. of employees responsible for equipment's operation/inspection/testing/maintenance | AAR (industry rep.) | 1 affirmation statement | 1 | 1 | 77
—(f)(3)(iii) Disposition of petitions: petition returned by FRA requesting additional information | AAR (industry rep.) | 1 petition or additional document | 2 | 2 | 154
231.35(a)-Procedure for modification of an approved industry safety appliance standard for new car construction—drafting and filing of petitions | AAR (industry rep.) | 1 petition for modification | 16 | 16 | 1,232
—Affirmative statement by petitioner that a petition copy has been served on rep. of employees responsible for equipment's operation/inspection/testing/maintenance | AAR (industry rep.) | 1 affirmation statement | 1 | 1 | 77
—(b)(2)(iii) Statement of interest in reviewing special approval filed with FRA | 5 rail labor unions/general public | 1 statement of interest | 1 | 1 | 77
—(e) FRA review of petition for modification; agency objection and AAR response | AAR (industry rep.) | 1 additional comment | 1 | 1 | 77
Total | N/A | 7 responses | N/A | 38 | 2,926
¹ The dollar equivalent cost is derived from the Surface Transportation Board's Full Year Wage A&B data series using the appropriate employee group hourly wage rate that includes a 75-percent overhead charge.

Total Estimated Annual Responses: 7.

Total Estimated Annual Burden: 38 hours.

Total Estimated Annual Burden Hour Dollar Cost Equivalent: $2,926.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-15330 Filed 7-15-20; 8:45 am]

BILLING CODE 4910-06-P